DEPARTMENT OF COMMERCE

International Trade Administration

[A-337-803]

Fresh Atlantic Salmon From Chile: Extension of Time Limit for Preliminary Results of Antidumping Duty Administrative Review

AGENCY: Import Administration, International Trade Administration, Department of Commerce.

EFFECTIVE DATE: March 2, 2000.

FOR FURTHER INFORMATION: Edward Easton at (202) 482-3003, Office of AD/CVD Enforcement 5, Import Administration, International Trade Administration, U.S. Department of Commerce, 14th and Constitution Avenue, NW, Washington DC 20230.

Time Limits

Statutory Time Limits

Section 751(a)(3)(A) of the Tariff Act of 1930, as amended (the Act), requires the Department to make a preliminary determination within 245 days after the last day of the anniversary month of an order for which a review is requested and a final determination within 120 days after the date on which the preliminary determination is published. However, if it is not practicable to complete the review within the time period, section 751(a)(3)(A) of the Act allows the Department to extend the time limit for the preliminary determination to a maximum of 365 days and for the final determination to 180 days (or 300 days if the Department does not extend the time limit for the preliminary determination) from the Date of publication of the preliminary determination.

Background

On August 30, 1999, the Department published a notice of initiation of administrative review of the antidumping order on Fresh Atlantic Salmon from Chile, covering the period July 28, 1998, through June 30, 1999 (64 FR 47167). The preliminary results are currently due no later than March 31, 2000.

Extension of Preliminary Results of Review

We determine that it is not practicable to complete the preliminary results of this review within the original time limit. Therefore, we are extending the time limit for completion of the preliminary results until no later than July 31, 2000. See Decision Memorandum from Gary Taverman to Holly Kuga, dated February 16, 2000, which is on file in the Central Records Unit, Room B-099 of the main Commerce building. We intend to issue the final results no later than 120 days after the publication of the notice of preliminary results.

This extension is in accordance with section 751(a)(3)(A) of the Act.

Dated: February 24, 2000.
Holly Kuga,
Acting Deputy Assistant Secretary, Import Administration, Group II.

[FR Doc. 00-5074 Filed 3-1-00; 8:45 am]

BILLING CODE 3510-DS-P